DEPARTMENT OF THE INTERIOR

Fish and Wildlife Service

[FWS-HQ-IA-2013-N013; FXIA16710900000P5-123-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibit activities with listed species unless Federal authorization is acquired that allows such activities.

DATES: We must receive comments or requests for documents on or before February 25, 2013. We must receive requests for marine mammal permit public hearings, in writing, at the address shown in the ADDRESSES section by February 25, 2013.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: Archie Carr Center for Sea Turtle Research, University of Florida, Gainesville, FL; PRT-724540

The applicant requests re-issuance of a permit to import biological samples collected from wild, captive held, and/or captive hatched leatherback sea turtle (Dermochelys coriacea), hawksbill sea turtle (Eretmochelys imbricata), green sea turtle (Chelonia mydas), Kemp's ridley sea turtle (Lepidochelys kempii), and olive ridley sea turtle (Lepidochelys olivacea) for the purpose of scientific research. Samples are to be collected from live or salvaged specimens. This notification covers activities conducted by the applicant over a 5-year period.

Applicant: University of Oregon, Eugene, OR; PRT-91312A

The applicant requests a permit to import biological samples collected from live captive held mandrills (Mandrillus sphinx), drills (Mandrillus leucophaeus), and red-eared guenons (Cercopithecus erythrotis) from Cameroon for the purpose of scientific research. This notification covers activities to be conducted by the applicant over a 5-year period.

Applicant: Cherane Pefley, Loxahatchee Groves, FL; PRT-94164A

The applicant requests a captive-bred wildlife registration under 50 CFR 17.21(g) for the golden parakeet (Guarouba guarouba) to enhance the species' propagation or survival. This notification covers activities to be conducted by the applicant over a 5-year period.

Applicant: Tanganyika Wildlife Park, Goddard, KS; PRT-93905A

The applicant requests a permit to import two captive-born Siamang (Symphalangus syndactylus) from the Dortmond Zoo, Germany for the purpose of enhancement of the survival of the species.

Multiple Applicants

The following applicants each request a permit to import the sport-hunted trophy of one male bontebok (Damaliscus pygargus pygargus) culled from a captive herd maintained under the management program of the Republic of South Africa, for the purpose of enhancement of the survival of the species.

Applicant: Veronica Kosich, Cutskill, NY; PRT-94126A

Applicant: Randy Shepherd, Sublimity, OR; PRT-93904A

B. Endangered Marine Mammals and Marine Mammals

Applicant: U.S. Fish and Wildlife Service National Forensics Laboratory, Ashland, OR; PRT-053639

The applicant requests renewal of the permit to export/re-export and import/re-import of biological specimens from any endangered or threatened species for the purpose of forensics activities which will directly or indirectly enhance the survival of the species in the wild. In addition, the applicant requests amendment to include FWS-jurisdiction marine mammal species, including marine otters (Lontra felina), sea otters (Enhydra lutris), all species of Sirenia (Trichechus manatus, T. senegalensis, T. inunguis, and Dugong dugon), polar bears (Ursus maritimus), and walrus (Odobenus rosmarus) for the purpose of scientific research. This notification covers activities to be conducted by the applicant over a 5-year period.

Applicant: U.S. Geological Survey, Alaska Science Center, Anchorage, AK; PRT-801652

The applicant requests a renewal and amendment of the permit to take walrus (Odobenus rosmarus) for capture/release, biological sampling, radio tagging and incidental harassment for the purpose of scientific research. In addition, the permit would authorize import and export of biological specimens. This notification covers activities to be conducted by the applicant over a 5-year period.

Concurrent with publishing this notice in the Federal Register, we are forwarding copies of the above applications to the Marine Mammal Commission and the Committee of Scientific Advisors for their review.

Brenda Tapia,
Program Analyst/Data Administrator, Branch of Permits, Division of Management Authority.

[FR Doc. 2013-01559 Filed 1-24-13; 8:45 am]

BILLING CODE 4310-55-P